DEPARTMENT OF HOMELAND SECURITY

Federal Emergency Management Agency

[Docket ID FEMA-2019-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Colorado:
Chaffee (FEMA Docket No.: B-1943). | Unincorporated areas of Chaffee County (19-08-0038P). | The Honorable Greg Felt, Chairman, Chaffee County Board of Commissioners, P.O. Box 699, Salida, CO 81201. | Chaffee County Planning and Zoning Department, 104 Crestone Avenue, Room 125, Salida, CO 81201. | Oct. 10, 2019 | 080269
Denver (FEMA Docket No.: B-1948). | City and County of Denver (19-08-0316P). | The Honorable Michael B. Hancock, Mayor, City and County of Denver, 1437 Bannock Street, Suite 350, Denver, CO 80202. | Department of Public Works, 201 West Colfax Avenue, Denver, CO 80202. | Oct. 18, 2019 | 080046
El Paso (FEMA Docket No.: B-1952). | City of Colorado Springs (19-08-0188P). | The Honorable John Suthers, Mayor, City of Colorado Springs, 30 South Nevada Avenue, Suite 601, Colorado Springs, CO 80903. | Pikes Peak Regional Building Department, 2880 International Circle, Colorado Springs, CO 80910. | Oct. 15, 2019 | 080060
Weld (FEMA Docket No.: B-1948). | Unincorporated areas of Weld County (19-08-0635P). | The Honorable Barbara Kirkmeyer, Chair, Weld County Board of Commissioners, P.O. Box 758, Greeley, CO 80632. | Department of Planning Services, 1555 North 17th Avenue, Greeley, CO 80631. | Oct. 15, 2019 | 080266
Florida:
Charlotte (FEMA Docket No.: B-1952). | Unincorporated areas of Charlotte County (19-04-0669P). | The Honorable Ken Doherty, Chairman, Charlotte County Board of Commissioners, 18500 Murdock Circle, Suite 536, Port Charlotte, FL 33948. | Charlotte County Community Development Department, 18500 Murdock Circle, Port Charlotte, FL 33948. | Oct. 17, 2019 | 120061
Lee (FEMA Docket No.: B-1943). | Town of Fort Myers Beach (19-04-3002P). | The Honorable Anita Cereceda, Mayor, Town of Fort Myers Beach, 2525 Estero Boulevard, Fort Myers Beach, FL 33931. | Community Development Department, 2525 Estero Boulevard, Fort Myers Beach, FL 33931. | Oct. 11, 2019 | 120673
Monroe (FEMA Docket No.: B-1948). | Unincorporated areas of Monroe County (19-04-2934P). | The Honorable Sylvia Murphy, Mayor, Monroe County Board of Commissioners, 102050 Overseas Highway, Suite 234, Key Largo, FL 33037. | Monroe County Building Department, 2798 Overseas Highway, Suite 300, Marathon, FL 33050. | Oct. 10, 2019 | 125129
Palm Beach (FEMA Docket No.: B-1948). | Unincorporated areas of Palm Beach County (18-04-6177P). | The Honorable Mack Bernard, Mayor, Palm Beach County Board of Commissioners, 301 North Olive Avenue, West Palm Beach, FL, 33401. | Palm Beach County Building Division, 2300 North Jog Road, West Palm Beach, FL 33411. | Oct. 11, 2019 | 120192
Sarasota (FEMA Docket No.: B-1943). | Town of Longboat Key (19-04-2109P). | Mr. Thomas A. Harmer, Manager, Town of Longboat Key, 501 Bay Isles Road, Longboat Key, FL 34228. | Planning, Zoning and Building Department, 501 Bay Isles Road, Longboat Key, FL 34228. | Oct. 15, 2019 | 125126
Massachusetts: Worcester (FEMA Docket No.: B-1948). | Town of Charlton (19-01-0726P). | The Honorable David Singer, Chairman, Town of Charlton Board of Selectmen, 37 Main Street, Charlton, MA 01507. | Town Hall, 37 Main Street, Charlton, MA 01507. | Oct. 2, 2019 | 250299
New Mexico: Santa Fe (FEMA Docket No.: B-1943). | City of Santa Fe (18-06-3876P). | The Honorable Alan M. Webber, Mayor, City of Santa Fe, P.O. Box 909, Santa Fe, NM 87504. | Building and Development Services Department, 102 Grant Avenue, Santa Fe, NM 87501. | Oct. 7, 2019 | 350070
North Carolina: Onslow (FEMA Docket No.: B-1948). | Unincorporated areas of Onslow County (18-04-3141P). | The Honorable Jack Bright, Chairman, Onslow County Board of Commissioners, 234 Northwest Corridor Boulevard, Jacksonville, NC 28540. | Onslow County Planning and Development Department, 234 Northwest Corridor Boulevard, Jacksonville, NC 28540. | Oct. 15, 2019 | 370340
Oklahoma:
Kingfisher (FEMA Docket No.: B-1943). | Unincorporated areas of Kingfisher County (19-06-0141P). | The Honorable Jeff Moss, Chairman, Kingfisher County Board of Commissioners, 101 South Main Street, Kingfisher, OK 73750. | Kingfisher County Courthouse, 101 South Main Street, Kingfisher, OK 73750. | Oct. 3, 2019 | 400471
Pottawatomie (FEMA Docket No.: B-1952). | City of Shawnee (19-06-2167P). | The Honorable Richard Finley, Mayor, City of Shawnee, 16 West 9th Street, Shawnee, OK 74801. | City Hall, 16 West 9th Street, Shawnee, OK 74801. | Oct. 3, 2019 | 400178
Pennsylvania:
Montgomery (FEMA Docket No.: B-1939). | Township of Lower Merion (18-03-2077P). | The Honorable Daniel S. Bernheim, President, Township of Lower Merion Board of Commissioners, 75 East Lancaster Avenue, Ardmore, PA 19003. | Township Hall, 75 East Lancaster Avenue, Ardmore, PA 19003. | Sep. 23, 2019 | 420757
Northumberland (FEMA Docket No.: B-1943). | Borough of Mount Carmel (18-03-1827P). | The Honorable Robert Shirmer, President, Borough of Mount Carmel Council, 137 West 4th Street, Mount Carmel, PA 17851. | Borough Hall, 137 West 4th Street, Mount Carmel, PA 17851. | Oct. 7, 2019 | 420738
Northumberland (FEMA Docket No.: B-1943). | Township of Mount Carmel (18-03-1827P). | The Honorable Aaron Domanski, Chairman, Township of Mount Carmel Board of Supervisors, 300 Laurel Street, Mount Carmel, PA 17851. | Township Hall, 300 Laurel Street, Mount Carmel, PA 17851. | Oct. 7, 2019 | 421942
Philadelphia (FEMA Docket No.: B-1939). | City of Philadelphia (18-03-2077P). | The Honorable James Keeney, Mayor, City of Philadelphia, 400 John F. Kennedy Boulevard, Philadelphia, PA 19107. | Department of Licenses and Inspections, 1401 John F. Kennedy Boulevard, Room 1130, Philadelphia, PA 19102. | Sep. 23, 2019 | 420757
Somerset (FEMA Docket No.: B-1931). | Township of Elk Lick (19-03-0464P). | The Honorable Allen Green, Chairman, Township of Elk Lick, 1507 St. Paul Road, Salisbury, PA 15558. | Township Hall, 1507 St. Paul Road, Salisbury, PA 15558. | Oct. 7, 2019 | 422048
South Dakota: Lawrence (FEMA Docket No.: B-1948). | City of Spearfish (19-08-0612P). | The Honorable Dana Boke, Mayor, City of Spearfish, 625 North 5th Street, Spearfish, SD 57783. | City Hall, 625 North 5th Street, Spearfish, SD 57783. | Oct. 21, 2019 | 460046
Texas:
Bexar (FEMA Docket No.: B-1948). | Unincorporated areas of Bexar County (19-06-0167P). | The Honorable Nelson W. Wolff, Bexar County Judge, 101 West Nueva Street, 10th Floor, San Antonio, TX 78205. | Bexar County Public Works Department, 233 North Pecos-La Trinidad Street, Suite 420, San Antonio, TX 78207. | Sep. 23, 2019 | 480035
Collin and Denton (FEMA Docket No.: B-1952). | City of Celina (19-06-0008P). | The Honorable Sean Terry, Mayor, City of Celina, 142 North Ohio Street, Celina, TX 75009. | City Hall, 142 North Ohio Street, Celina, TX 75009. | Oct. 7, 2019 | 480133
Collin (FEMA Docket No.: B-1948). | City of McKinney (18-06-1366P). | The Honorable George Fuller, Mayor, City of McKinney, P.O. Box 517, McKinney, TX 75070. | Engineering Department, 221 North Tennessee Street, McKinney, TX 75069. | Oct. 21, 2019 | 480135
Collin (FEMA Docket No.: B-1952). | Unincorporated areas of Collin County (19-06-0008P). | The Honorable Chris Hill, Collin County Judge, 2300 Bloomdale Road, Suite 4192, McKinney, TX 75071. | Collin County Emergency Management Department, 4690 Community Avenue, Suite 200, McKinney, TX 75071. | Oct. 7, 2019 | 480130
Denton (FEMA Docket No.: B-1952). | Unincorporated areas of Denton County (19-06-0008P). | The Honorable Andy Eads, Denton County Judge, 110 West Hickory Street, 2nd Floor, Denton, TX 76201. | Denton County Public Works, Engineering Department, 1505 East McKinney Street, Suite 175, Denton, TX 76201. | Oct. 7, 2019 | 480774
El Paso (FEMA Docket No.: B-1943). | City of El Paso (19-06-0075P). | The Honorable Dee Margo, Mayor, City of El Paso, 300 North Campbell Street, El Paso, TX 79901. | City Development Department, 811 Texas Avenue, El Paso, TX 79901. | Oct. 7, 2019 | 480214
Harris (FEMA Docket No.: B-1948). | City of Houston (19-06-2522P). | The Honorable Sylvester Turner, Mayor, City of Houston, P.O. Box 1562, Houston, TX 77251. | Floodplain Management Department, 1002 Washington Avenue, Houston, TX 77002. | Oct. 21, 2019 | 480296
Montgomery (FEMA Docket No.: B-1943). | City of Conroe (19-06-0333P). | The Honorable Toby Powell, Mayor, City of Conroe, P.O Box 3066, Conroe, TX 77305. | Engineering Department, 300 West Davis Street, Conroe, TX 77301. | Oct. 7, 2019 | 480484
Montgomery (FEMA Docket No.: B-1943). | Unincorporated areas of Montgomery County (19-06-0333P). | The Honorable Mark J. Keough, Montgomery County Judge, 501 North Thompson Street, Suite 401, Conroe, TX 77301. | Montgomery County Commissioners Court Building, 501 North Thompson Street, Suite 103, Conroe, TX 77301. | Oct. 7, 2019 | 480483
Tarrant (FEMA Docket No.: B-1943). | City of Crowley (18-06-3679P). | The Honorable Billy P. Davis, Mayor, City of Crowley, 201 East Main Street, Crowley, TX 76036. | City Hall, 201 East Main Street, Crowley, TX 76036. | Oct. 7, 2019 | 480591
Tarrant (FEMA Docket No.: B-1943). | Unincorporated areas of Tarrant County (18-06-3679P). | The Honorable B. Glen Whitley, Tarrant County Judge, 100 East Weatherford Street, Suite 401, Fort Worth, TX 76196. | Tarrant County Plaza Building, 100 East Weatherford Street, Suite 401, Fort Worth, TX 76196. | Oct. 7, 2019 | 480582
Virginia: Independent City (FEMA Docket No.: B-1943). | City of Fairfax (19-03-0492P). | Mr. Robert A. Stalzer, Manager, City of Fairfax, 10455 Armstrong Street, Room 316, Fairfax, VA 22030. | Public Works Department, 10455 Armstrong Street, Room 200, Fairfax, VA 22030. | Oct. 11, 2019 | 515524
Washington:
Spokane (FEMA Docket No.: B-1952). | City of Spokane Valley (18-10-1005P). | Mr. Mark Calhoun, Manager, City of Spokane Valley, 10210 East Sprague Avenue, Spokane Valley, WA 99206. | Building and Planning Division, 10210 East Sprague Avenue, Spokane Valley, WA 99206. | Oct. 15, 2019 | 530342
Spokane (FEMA Docket No.: B-1952). | Unincorporated areas of Spokane County (18-10-1005P). | Mr. Gerry Gemmill, Chief Executive Officer, Spokane County, 1116 West Broadway Avenue, Spokane, WA 99260. | Spokane County Public Works Department, 1026 West Broadway Avenue, Spokane, WA 99260. | Oct. 15, 2019 | 530174

[FR Doc. 2019-24883 Filed 11-15-19; 8:45 am]

BILLING CODE 9110-12-P